DEPARTMENT OF HOMELAND SECURITY

Transportation Security Administration

[Docket No. TSA-2003-14610]

Revision of Agency Information Collection Activity Under OMB Review: Security Threat Assessment for Individuals Applying for a Hazardous Materials Endorsement for a Commercial Driver's License

AGENCY: Transportation Security Administration, DHS.

ACTION: 30-day Notice.

SUMMARY: This notice announces that the Transportation Security Administration (TSA) has forwarded the Information Collection Request (ICR), Office of Management and Budget (OMB) control number 1652-0027, abstracted below to OMB for review and approval of a revision of the currently approved collection under the Paperwork Reduction Act (PRA). The ICR describes the nature of the information collection and its expected burden. TSA published a Federal Register notice soliciting comments for a 60-day period on August 16, 2016, 81 FR 54585. The collection involves applicant submission of biometric and biographic information for TSA's security threat assessment required before obtaining the hazardous materials endorsement (HME) on a commercial driver's license (CDL) issued by the States and the District of Columbia.

DATES: Send your comments by February 8, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Threat Assessment for Individuals Applying for a Hazardous Materials Endorsement for a Commercial Driver's License

Type of Request: Revision of a currently approved collection.

OMB Control Number: 1652-0027.

Forms(s): TSA Form 2214; HME Threat Assessment Program (HTAP).

Affected Public: Drivers seeking a hazardous material endorsement (HME) on their commercial driver's license (CDL).

Abstract: This collection supports the implementation of sec. 1012 of the USA PATRIOT Act (Pub. L. 107-56, 115 Stat. 272, 396, Oct. 26, 2001) (49 U.S.C. 5103a), which mandates that no State or the District of Columbia may issue an HME on a CDL unless TSA has first determined the driver is not a threat to transportation security. TSA's regulations at 49 CFR part 1572 describe the procedures, standards, and eligibility criteria for security threat assessments on individuals seeking to obtain, renew, or transfer a HME on a CDL. In order to conduct the security threat assessment, States (or a TSA designated agent in States that elect to have TSA perform the collection of information) must collect information in addition to that already collected for the purpose of HME applications, which will occur once approximately every five years. The driver is required to submit an application that includes personal biographic information (for instance, height, weight, eye and hair color, date of birth); information concerning legal status, mental health defects history, and criminal history; and biometrics such as fingerprints. In addition, 49 CFR part 1572 requires States to maintain a copy of the driver application for a period of one year.

TSA is revising the collection of information to allow for recurrent criminal history vetting. Applicants' fingerprints and associated information will be provided to the Federal Bureau of Investigation (FBI) for the purpose of comparing their fingerprints to other fingerprints in the FBI's Next Generation Identification (NGI) system or its successor systems, including civil, criminal, and latent fingerprint repositories. The FBI may retain applicants' fingerprints and associated information in NGI after the completion of their application and, while retained, their fingerprints may continue to be compared against other fingerprints submitted to or retained by NGI. TSA will also transmit applicants' biometrics for enrollment into the Department of Homeland Security Automated Biometrics Identification System (IDENT).

In addition, TSA is revising the collection of information to expand enrollment options and the potential use of biographic and biometric (e.g., fingerprints, iris scans, and/or photo) information. This revision would allow for facilitation of the security threat assessment and future use of the information collected for additional comparability determinations, such as allowing the HME applicant to participate in a program such as the TSA Pre✓® Application Program, TSA's expedited screening program for air travelers, or obtain a Transportation Worker Identification Credential (TWIC) without requiring an additional background check.

TSA is currently revising its fee for the HME Threat Assessment Program as well as the fee for comparable security threat assessments in light of changes to the FBI's fingerprint processing fee and TSA's costs related to conducting the security threat assessment (STA). The FBI's fee and STA fee are two out of three segments of the HME Threat Assessment Program's overall fee. The HME fee contains segments for enrollment, the STA, and FBI fees, most recently $38.00 for vendor enrollments (amount varies by State for State enrollments), $34.00 for the STA of each applicant and $14.50 for the FBI processing each enrollment, respectively.

On February 1, 2015, the FBI reduced its fingerprint-based criminal history record check fee by $1.75 based on recommendations from a required user fee study (75 FR 18751). Effective October 1, 2016, the FBI again reduced its fingerprint-based criminal history record check fee, this time by $2.75 based on recommendations from a required user fee study (81 FR 45535). Section 1572.501(b)(3) states that if the FBI amends its fee for criminal history records checks, TSA will collect the amended FBI fee. By contrast, TSA will increase the STA segment of the standard HME fee in the amount of $3.00. TSA has identified, in accordance with the methodologies described in the 2013 final fee rule, threat assessment service costs related to the STA segment of the standard HME fee that exceed the expected STA segment revenue. The majority of these costs relate to technology infrastructure and operating costs. In addition to increased technology costs, the number of HME applicants has been in decline, leaving fewer applicants from which costs may be recovered. These two factors necessitate an increase in cost recovery in the ongoing operation of the HME program. The enrollment segment of the HME Threat Assessment Program's overall fee will remain at $38.00 for enrollments conducted by TSA's vendor. As a result of the FBI's fee decreases ($4.50 over the FBI's past two fee changes) and the increase in the STA segment of the standard HME fee ($3.00), the overall HME standard enrollment fee ($86.50) for applicants enrolled by TSA's vendor will be reduced by $1.50 to the new fee of $85.00 ($10.00 + $37.00 + $38.00), effective upon publication of TSA's Notice of Fee Adjustment. For applicants who enroll through a State in States that choose not to use TSA's enrollment vendor, the revised fees for the FBI and STA segments of the overall fee for State enrollments will be the same as for enrollments conducted by TSA's vendor ($10.00 and $37.00, respectively); however, because each State that conducts its own enrollments charges its own fee (over which TSA has no control) TSA cannot provide a revised overall enrollment fee for State enrollments.

TSA will also decrease the amount of the STA segment of the reduced HME fee by $1.00, from $29.00 to $28.00, which applies to both vendor and state enrollment methods. TSA is decreasing this segment of the reduced HME fee because TSA has identified, in accordance with the methodologies described in the 2013 final fee rule, threat assessment service revenue related to the STA segment of the reduced fee that exceeds the expected STA segment costs. Thus, the HME reduced enrollment fee ($67.00) will be reduced to the new fee of $66.00 for vendor enrollments, effective upon publication of TSA's Notice of Fee Adjustment. Again, because each state that conducts its own enrollments charges its own fee for its enrollment segment, it is not possible to give a revised overall reduced HME fee for state enrollments.

Number of Respondents: 268,295.

Estimated Annual Burden Hours: An estimated 524,746 hours annually.

Dated: January 3, 2017.
Christina A. Walsh,
TSA Paperwork Reduction Act Officer, Office of Information Technology.

[FR Doc. 2017-00155 Filed 1-6-17; 8:45 am]

BILLING CODE 9110-05-P